FEDERAL COMMUNICATIONS COMMISSION

[Report No. 2517]

Petition For Reconsideration and Clarification of Action in Rulemaking Proceeding

November 30, 2001.

Petition for Reconsideration and Clarification has been filed in the Commission's rulemaking proceeding listed in this Public Notice and published pursuant to 47 CFR section 1.429(e). The full text of this document is available for viewing and copying in Room CY-A257, 445 12th Street, SW., Washington, DC or may be purchased from the Commission's copy contractor, Qualex International (202) 863-2893. Oppositions to this petition must be filed by December 24, 2001. See section 1.4(b)(1) of the Commission's rules (47 CFR 1.4(b)(1)). Replies to an opposition must be filed within 10 days after the time for filing oppositions has expired.

Subject: In the Matter of Inquiry Regarding Software Defined Radios (ET Docket No. 00-47).

Number of Petitions Filed: 1.

Magalie Roman Salas,
Secretary.

[FR Doc. 01-30302 Filed 12-6-01; 8:45 am]

BILLING CODE 6712-01-M